STATE DEPARTMENT

[Public Notice 11660]

Overseas Security Advisory Council (OSAC) Meeting Notice; Closed Meeting

The Department of State announces meetings of the U.S. State Department's Overseas Security Advisory Council on June 8, and November 15, 2022. Pursuant to Section 10(d) of the Federal Advisory Committee Act (5 U.S.C. Appendix), 5 U.S.C. 552b(c)(4), and 5 U.S.C. 552b(c)(7)(E), it has been determined that the meetings will be closed to the public. The meetings will focus on an examination of corporate security policies and procedures and will involve extensive discussion of trade secrets and proprietary commercial information that is privileged and confidential, and will discuss law enforcement investigative techniques and procedures. The agendas will include updated committee reports, global threat overviews, and other matters relating to private sector security policies and protective programs and the protection of U.S. business information overseas.

For more information, contact Rebecca Spingarn, Overseas Security Advisory Council, U.S. Department of State, Washington, DC 20522-2008, phone: 571-228-3221.

Kevin E. Bryant,
Deputy Director, Office of Directives Management, Department of State.

[FR Doc. 2022-06412 Filed 3-25-22; 8:45 am]

BILLING CODE 4710-43-P